DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On November 9, 2022, OFAC determined that the property and interests in property subject to U.S. jurisdiction of the following persons are blocked under the relevant sanctions authorities listed below.

Individuals

1. DE KONING, Martinus Pterus Henrikus (a.k.a. DE KONING, Martinus Pterus Henri; a.k.a. “DE KONING, Martijns”; a.k.a. “DE KONING, Mph”), Boxtel, Netherlands; DOB 07 Jan 1987; POB Netherlands; nationality Netherlands; Email Address mdk1987@hotmail.nl; Gender Male; Passport NNJ8FR670 (Netherlands) (individual) [ILLICIT-DRUGS-EO14059]. Sanctioned pursuant to section 1(b)(i) of Executive Order 14059 of December 15, 2021, “Imposing Sanctions on Foreign Persons Involved in the Global Illicit Drug Trade,” (the “Order”), for having provided, or attempted to provide, financial, material, or technological support for, or goods or services in support of PEIJNENBURG, Alex Adrianus Martinus, a sanctioned person.

2. PEIJNENBURG, Alex Adrianus Martinus (a.k.a. PEIJNENBURG, Alex Adrianus Martin; a.k.a. “PEIJNENBURG, Aam”), Boxtel, Netherlands; DOB 06 Jan 1987; POB Boxtel, Netherlands; citizen Netherlands; website therealrc.com; Gender Male; Digital Currency Address—XBT 15UdZbmGPa2LatD3abtGpphgkHLFWftV4R; alt. Digital Currency Address—XBT 1DbvK8P6imBuLcwh2Vruis4xsUb8YAwJQF; alt. Digital Currency Address—XBT 1G6DuwDKNHiUWqks2Lgu44cesu7ffFbLK7; alt. Digital Currency Address—XBT 3AQSmMk5n3c6TKEg9B2WyzYAPm33gJJAA4; alt. Digital Currency Address—XBT 129zKFLoVad9JtxSmDKeJoLCsjhGR7b3vr; alt. Digital Currency Address—XBT 12YyR9EpvHxBjjKjTWqfKqeyoWnvcraxpW; alt. Digital Currency Address—XBT 1G9A8WRjGXdnYY4TNEVRrcaHsMtana4ncF; alt. Digital Currency Address—XBT 1KctQENEX5QkQMpnMC3Zh9yRAzkMBLpPcr; alt. Digital Currency Address—XBT 3HqA7i3ttECLvgqvq69HNxxUP5BL7Z5YgA; alt. Digital Currency Address—XBT 1Js6goCey2NaqPQptiLANLQGuk4d6mowjP; alt. Digital Currency Address—XBT 13RH4JaFhaCxDGPyYE9emjp2aDxdX18uBA; alt. Digital Currency Address—XBT 1FE2cuvkq8n5VGwj5hi8YYQxskwJpovPyV; alt. Digital Currency Address—XBT 1DJoEMvp95yJYWyxAZy8DDBzuvjnrTVrsN; alt. Digital Currency Address—XBT 1N6XqSf3ULpNjko9LrJmHudRoLitjwkETN; alt. Digital Currency Address—XBT bc1qwa6zu6qhl6wqnlxp642vcf89nptsassle25ulf; alt. Digital Currency Address—XBT 386wa1UM6nA798AWNh64jdrejZyedeXgUN; alt. Digital Currency Address—XBT 16tByCYzxuWiN8kF9FrK9jJy6eQYLVkQ1i; alt. Digital Currency Address—XBT 1NpHuti9NSM9fVTXLkvSDU4AnhqGQ5N53d; Digital Currency Address—ETH 0x83E5bC4Ffa856BB84Bb88581f5Dd62A433A25e0D; alt. Digital Currency Address—ETH 0x08b2eFdcdB8822EfE5ad0Eae55517cf5DC544251; alt. Digital Currency Address—ETH 0x04DBA1194ee10112fE6C3207C0687DEf0e78baCf; alt. Digital Currency Address—ETH 0x0Ee5067b06776A89CcC7dC8Ee369984AD7Db5e06; alt. Digital Currency Address—ETH 0x502371699497d08D5339c870851898D6D72521Dd; alt. Digital Currency Address—ETH 0x5A14E72060c11313E38738009254a90968F58f51; alt. Digital Currency Address—ETH 0xEFE301d259F525cA1ba74A7977b80D5b060B3ccA; Digital Currency Address—BCH qpusmp64rajses77x95g9ah825mtyyv74smwwkxhx3; Passport NK6788642 (Netherlands) (individual) [ILLICIT-DRUGS-EO14059]. Sanctioned pursuant to section 1(a)(i) of Executive Order 14059 of December 15, 2021, “Imposing Sanctions on Foreign Persons Involved in the Global Illicit Drug Trade,” (the “Order”), for having engaged in, or attempted to engage in, activities or transactions that have materially contributed to, or pose a significant risk of materially contributing to, the international proliferation of illicit drugs or their means of production.

3. GRIMM, Matthew Simon, Bristol, United Kingdom; Amsterdam, Netherlands; DOB 05 Sep 1974; POB Southmead, England; nationality United Kingdom; citizen United Kingdom; website smokeyschemsite.com; alt. website gr8researchchemicals-eu.com; Gender Male; alt. Digital Currency Address—XBT 1LpYKb3SXZPve9hsH2QEJZFX279wJVGowi; alt. Digital Currency Address—XBT 15uqdxqNXQwVf5H7yZPz4TmEGeSccCwdor; alt. Digital Currency Address—XBT 1FjubFHV4mpYjBmvjsEhZssyiiA4TNmnm2; alt. Digital Currency Address—XBT 1LAh7PQwpd1uGiLHae5C5Xz9QXse3y2phq; alt. Digital Currency Address—XBT 15yqWQ4sqr7jzCwDtZ3U1KaCa8WMEy7Mm2; alt. Digital Currency Address—XBT 19GrL5jnUkGmHXVcraB1Etv5rXCANeLWpq; alt. Digital Currency Address—XBT 39NG2LcGRHXxSr1irpEVnJMw4ydL231sEn; alt. Digital Currency Address—XBT 3He6EyDaCUgmdr4GXqhxbeTQukaGLCByU2; alt. Digital Currency Address—XBT 12NpCkhddSNiDkD9rRYUCHsTT9ReMNiJjG; alt. Digital Currency Address—XBT 32jgFkZsTEjMFaBvxJnYvJEeTNKTmq5b32; alt. Digital Currency Address—XBT 1Hpj6qm9i7nMF3VkKfBFtjhEDpEjxHWvgv; alt. Digital Currency Address—XBT 194xmrZA53UBsZau2PnJLdmVVW9m5feeS; alt. Digital Currency Address—XBT 361NP7YcBPQ4KkLT3Y2QZeDEV4M3yi65Ar; alt. Digital Currency Address—XBT 1LuDiMd95Df4i2bcvrfw47t2GKpLLXAQMZ; alt. Digital Currency Address—XBT 3A1HH3PseYMkh2nSrBb4kkVt3815kUNVVC; alt. Digital Currency Address—XBT 1F317n2eJEMaEMGiwCqtd5XCU3wF7jzPEW; alt. Digital Currency Address—XBT 3HWjh69cVQvcPeLWVCyVmXEq72nyDSj5zP; alt. Digital Currency Address—XBT 1r6S9vpUZPS5rb6gSdwV2bvSFcN3uSq4q; alt. Digital Currency Address—XBT 3Jpf9B5P8cvEKSSGp9cES3Upbms8VRnXUb; alt. Digital Currency Address—XBT 3EL5vcYeu1cnivLtR7tnAX3bBirr9ATNAL; alt. Digital Currency Address—XBT 1LBQd4ZxtQYYsDWrCzK4uMxHBJVxmyzs3M; alt. Digital Currency Address—XBT 1LQV6yUBcfTjAWvFu3XPhdTgjqihss7i1z; alt. Digital Currency Address—XBT 1MiQRekg4BatJ12qbiSGnNakLLd8xbLMCG; alt. Digital Currency Address—XBT 12mNKr2YP4M3CEQvCvVqZsvxuCG47LHMu1; alt. Digital Currency Address—XBT 1J6cgUVEZRKyJhpXJgHWX7YmzkdnHRaLhF; alt. Digital Currency Address—XBT 3PUmTuVAW3LkKg53FZ7F97VDBitW4ugwnM; alt. Digital Currency Address—XBT 3H4qaWi5DS6FMwyZrG9xRRud3Qc5dUVn2U; alt. Digital Currency Address—XBT 13ViCDZyJxxv5cZzpDDsE7aDQ3Y552zpAH; alt. Digital Currency Address—XBT 1Juv2Ks3jJFUes8jEGxwgt6T6csBRQmmRw; alt. Digital Currency Address—XBT 35vypiSvQsxRiT3YZzGRGVaduUSx67ysZb; alt. Digital Currency Address—XBT 3LLUnf3ezw6mCbQ2zCZmGu5rZULzkhxQi7; alt. Digital Currency Address—XBT 3QrukkUiBrn23rFUKUgasNd1wYWNk7WdSV; alt. Digital Currency Address—XBT 3B3vmabBbeDRnVrjvvq3hm85zVB4v5bWFC; alt. Digital Currency Address—XBT 31nadacWrgPeAQxKRMabhn3fPhnhi3hjKa; alt. Digital Currency Address—XBT 343w3Xh64q5UpgpvAPqmsUzxrknde8PQHb; alt. Digital Currency Address—XBT 1C7RpJNE19HgefzWVCSaUqRTHAwGAFkbYV; Digital Currency Address—ETH 0xd0975b32cea532eadddfc9c60481976e39db3472; alt. Digital Currency Address—ETH 0x1967d8af5bd86a497fb3dd7899a020e47560daaf; Digital Currency Address—BCH qqyuc9s700plhzr6awzru7g5z2d2p906uyrm6ht0r0; alt. Digital Currency Address—BCH qz9f2vz3033sg5vc5mf7m7xshmj0jugy4ummf05jk8 (individual) [ILLICIT-DRUGS-EO14059]. Sanctioned pursuant to section 1(a)(i) of Executive Order 14059 of December 15, 2021, “Imposing Sanctions on Foreign Persons Involved in the Global Illicit Drug Trade,” (the “Order”), for having engaged in, or attempted to engage in, activities or transactions that have materially contributed to, or pose a significant risk of materially contributing to, the international proliferation of illicit drugs or their means of production.

Entities

1. A.A.M. PEIJNENBURG HOLDING B.V., Huygensstraat 42, JM, Boxtel 5283, Netherlands; Organization Established Date 31 Jul 2017; Tax ID No. 857833169 (Netherlands) [ILLICIT-DRUGS-EO14059] (Linked To: PEIJNENBURG, Alex Adrianus Martinus). Sanctioned pursuant to section 1(b)(iii) of the Order for being owned, controlled, or directed by, or having acted or purported to act for or on behalf of, directly or indirectly, PEIJNENBURG, Alex Adrianus Martinus, a sanctioned person.

2. BELLIZO, Huygensstraat 42, JM, Boxtel 5283, Netherlands; website www.bellizo.nl; Organization Established Date 01 Jan 2020; Trade License No. 76856291 (Netherlands) [ILLICIT-DRUGS-EO14059] (Linked To: PEIJNENBURG, Alex Adrianus Martinus). Sanctioned pursuant to section 1(b)(iii) of the Order for being owned, controlled, or directed by, or having acted or purported to act for or on behalf of, directly or indirectly, PEIJNENBURG, Alex Adrianus Martinus, a sanctioned person.

3. BEST SPORT COMPANY, Purcellstraat 4, GZ, Boxtel 5283, Netherlands; website www.bodylab.company; Organization Established Date 15 Jul 2019; Tax ID No. 860622253 (Netherlands) [ILLICIT-DRUGS-EO14059] (Linked To: DE KONING, Martinus Pterus Henrikus). Sanctioned pursuant to section 1(b)(iii) of the Order for being owned, controlled, or directed by, or having acted or purported to act for or on behalf of, directly or indirectly, DE KONING, Martinus Pterus Henrikus, a sanctioned person.

4. BEST SPORT COMPANY B.V, Purcellstraat 4, GZ, Boxtel 5283, Netherlands; Organization Established Date 31 Mar 2021; Tax ID No. 862457051 (Netherlands) [ILLICIT-DRUGS-EO14059] (Linked To: A.A.M. PEIJNENBURG HOLDING B.V.; Linked To: PEIJNENBURG, Alex Adrianus Martinus). Sanctioned pursuant to section 1(b)(iii) of the Order for being owned, controlled, or directed by, or having acted or purported to act for or on behalf of, directly or indirectly, PEIJNENBURG, Alex Adrianus Martinus and A.A.M. PEIJNENBURG HOLDING B.V., sanctioned persons.

5. GREEN DISTRICT B.V. (f.k.a. RESEARCH GROUP NEDERLAND B.V.), Huygensstraat 42, JM, Boxtel 5283, Netherlands; website www.researchgroupnederland.com; Organization Established Date 12 Jan 2017; Tax ID No. 857833340 (Netherlands) [ILLICIT-DRUGS-EO14059] (Linked To: PEIJNENBURG, Alex Adrianus Martinus; Linked To: ORGANIC DISTRICT B.V.). Sanctioned pursuant to section 1(b)(iii) of the Order for being owned, controlled, or directed by, or having acted or purported to act for or on behalf of, directly or indirectly, PEIJNENBURG, Alex Adrianus Martinus and ORGANIC DISTRICT B.V., sanctioned persons.

6. KING TRADE B.V., Purcellstraat 4, GZ, Boxtel 5283, Netherlands; Organization Established Date 31 Mar 2021; Tax ID No. 862449704 (Netherlands) [ILLICIT-DRUGS-EO14059] (Linked To: DE KONING, Martinus Pterus Henrikus). Sanctioned pursuant to section 1(b)(iii) of the Order for being owned, controlled, or directed by, or having acted or purported to act for or on behalf of, directly or indirectly, DE KONING, Martinus Pterus Henrikus, a sanctioned person.

7. ORGANIC DISTRICT B.V., Huygensstraat 42, JM, Boxtel 5283, Netherlands; Organization Established Date 31 Mar 2021; Tax ID No. 862449091 (Netherlands) [ILLICIT-DRUGS-EO14059] (Linked To: PEIJNENBURG, Alex Adrianus Martinus). Sanctioned pursuant to section 1(b)(iii) of the Order for being owned, controlled, or directed by, or having acted or purported to act for or on behalf of, directly or indirectly, PEIJNENBURG, Alex Adrianus Martinus, a sanctioned person.

8. ERJM LIMITED (a.k.a. “ERJM LTD”), 18 Regent Street Kingswood, Bristol, Avon BS15 8JS, United Kingdom; website www.erjmltd.com; Organization Established Date 08 Jul 2016; V.A.T. Number GB264205718 (United Kingdom) [ILLICIT-DRUGS-EO14059] (Linked To: GRIMM, Matthew Simon). Sanctioned pursuant to section 1(b)(iii) of the Order for being owned, controlled, or directed by, or having acted or purported to act for or on behalf of, directly or indirectly, Grimm, Matthew Simon, a sanctioned person.

9. NATURAL GIFTS B.V., Keizersgracht 62, CS, Amsterdam 1015, Netherlands; website www.cbde-liquids.co.uk; Organization Established Date 27 Mar 2017; Tax ID No. 857425493 (Netherlands) [ILLICIT-DRUGS-EO14059] (Linked To: GRIMM, Matthew Simon). Sanctioned pursuant to section 1(b)(iii) of the Order for being owned, controlled, or directed by, or having acted or purported to act for or on behalf of, directly or indirectly, Grimm, Matthew Simon, a sanctioned person.

Dated: November 8, 2022.
Andrea Gacki,
Director, Office of Foreign Assets Control, U.S. Department of the Treasury.

[FR Doc. 2022-25808 Filed 11-25-22; 8:45 am]

BILLING CODE 4810-AL-P